DEPARTMENT OF TRANSPORTATION

National Highway Traffic Safety Administration

[U.S. DOT Docket No. NHTSA-2017-0049]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes an Information Collection Request (ICR) for which NHTSA intends to seek OMB approval.

DATES: Comments must be submitted on or before September 25, 2017.

ADDRESSES: You may submit comments identified by DOT Docket ID Number NHTSA-2017-0049 using any of the following methods:

Electronic Submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Randolph Atkins, Ph.D., Contracting Officer's Representative, Office of Behavioral Safety Research (NPD-310), National Highway Traffic Safety Administration, 1200 New Jersey Ave. SE., W46-500, Washington, DC 20590. Dr. Atkins' phone number is 202-366-5597 and his email address is randolph.atkins@dot.gov.

SUPPLEMENTARY INFORMATION:

Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following proposed collection of information:

Title: Effectiveness of State Law Enforcement Liaison Programs.

Type of Request: New information collection request.

OMB Clearance Number: None.

Form Numbers: NHTSA Form 1408 and NHTSA Form 1409.

Requested Expiration Date of Approval: 3 years from date of approval.

Summary of the Collection of Information: The National Highway Traffic Safety Administration (NHTSA) proposes to collect information from the State's Law Enforcement Liaisons (LELs) and a selection of their State and sponsoring agency sponsors about the State's LEL program activities in promoting NHTSA's traffic safety programs and initiatives. Participation in the study will be voluntary. The LELs and their State and sponsoring agency sponsors will be asked to participate in an online Web site-based survey designed to identify their program characteristics, costs, and State-recommended program practices. The following data will be collected: Number of LELs, program structure and organization, job description, program objectives, reporting requirements, performance monitoring practices, program costs, communication networks, reported usefulness of specific program practices, site and conference attendance practices, and public outreach activities. The estimated time to complete the web-based surveys will be 45 minutes. No personally identifiable information will be used in analysis. The results from the surveys will be reported in aggregate and not identify individuals.

Description of the Need for the Information and Proposed Use of the Information: NHTSA was established to reduce the number of deaths, injuries, and economic losses resulting from motor vehicle crashes on the nations' highways. As part of this statutory mandate, NHTSA is authorized to conduct research as a foundation for the development of motor vehicle standards and traffic safety programs. In support of this mission, NHTSA proposes to collect information from LELs and their State and/or sponsoring agency sponsors to improve NHTSA's understanding of LEL programs in the United States and to evaluate the programmatic and cost effectiveness of existing LEL approaches. Study outcomes will be used to inform funding agencies and LEL programs about LEL best practices and what is required to maintain maximum LEL program effectiveness. The information will support States and other agencies and organizations in their efforts to reduce and prevent injuries among the motoring public through the use of traffic safety programs promoted by the LELs.

Description of the Likely Respondents (Including Estimated Number, and Proposed Frequency of Response to the Collection of Information): NHTSA proposes to conduct two one-time surveys. The first survey will include the approximately 240 LELs across the country. The second survey will include the sponsoring agencies from the 49 States that use LELs, either State Highway Safety Office (SHSO) or other sponsoring agency personnel that supervise the LELs. Potential participants will be sent an advance letter to inform them of the survey and how to access the questionnaire along with a request for their participation. Both surveys will be administered using an online survey format.

Estimate of the Total Annual Reporting and Record Keeping Burden Resulting From the Collection of Information: Each of the approximately 240 LELs and the LEL supervisors from the 49 sponsoring agencies will take the a single web-based online survey, which will take approximately 45 minutes to complete. Data collection is expected to take place over a 2 month period of time in the spring of 2018. The estimated annual burden is approximately 217 total hours for both surveys combined. The participants will not incur any record keeping burden nor record keeping cost from the information collection.

Authority: 44 U.S.C. Section 3506(c)(2)(A).

Issued in Washington, DC, on July 20, 2017.
Jeff Michael,
Associate Administrator, Research and Program Development.

[FR Doc. 2017-15567 Filed 7-24-17; 8:45 am]

BILLING CODE 4910-59-P